DEPARTMENT OF HOMELAND SECURITY

U.S. Citizenship and Immigration Services

Agency Information Collection Activities: Monthly Report on Naturalization Papers, Form N-4; Extension of a Currently Approved Information Collection; Comment Request

ACTION: 60-Day Notice of Information Collection under Review, OMB Control No. 1615-0051.

The Department of Homeland Security (DHS), U.S. Citizenship and Immigration Services (USCIS) will be submitted the following information collection request for review and clearance in accordance with the Paperwork Reduction Act (PRA) of 1995. The information collection is published to obtain comments from the public and affected agencies. Comments are encouraged and will be accepted for 60 days until September 14, 2012.

Written comments and suggestions regarding items contained in this notice, and especially with regard to the estimated public burden and associated response time should be directed to DHS, USCIS, Chief, Regulatory Coordination Division, Office of Policy and Strategy, 20 Massachusetts Avenue NW., Washington, DC 20529-2020. Comments may also be submitted to DHS via email at USCISFRComment@dhs.gov or via the Federal eRulemaking Portal at http://www.Regulations.gov under e-Docket ID number USCIS-2005-0032. When submitting comments by email please add the OMB Control Number 1615-0051 in the subject box. All submissions received must include the agency name and e-Docket ID.

Regardless of the method used for submitting comments or material, all submissions will be posted, without change, to the Federal eRulemaking Portal at http://www.Regulations.gov, and will include any personal information you provide. Therefore, submitting this information makes it public. You may wish to consider limiting the amount of personal information that you provide in any voluntary submission you make to DHS. DHS may withhold information provided in comments for public viewing that it determines may impact the privacy of an individual or is offensive. For additional information please read the Privacy Act notice that is available via the link in the footer of http://www.Regulations.gov.

Note: The address listed in this notice should only be used to submit comments concerning this information collection. Please do not submit requests for individual case status inquiries to this address. If you are seeking information about the status of your individual case, please check “My Case Status” online at https://egov.uscis.gov/cris/Dashboard.do, or call the USCIS National Customer Service Center at 1-800-375-5283.

Written comments and suggestions from the public and affected agencies should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Monthly Report on Naturalization Papers.

(3) Agency form number, if any, and the applicable component of the Department of Homeland Security sponsoring the collection: Form N-4; USCIS.

(4) Affected public who will be asked or required to respond, as well as a brief abstract: Primary: State or local Governments. Section 339 of the Immigration and Nationality Act (Act) requires that the clerk of each court that administers the oath of allegiance notify USCIS of all persons to whom the oath of allegiance for naturalization is administered, within 30 days after the close of the month in which the oath was administered. This form provides a format listing the number of those persons to USCIS and provides accountability for the delivery of the certificates of naturalization as required under that section of law.

(5) An estimate of the total number of respondents and the amount of time estimated for an average respondent to respond: 160 respondents at 12 responses annually at 30 minutes (.50) per response.

(6) An estimate of the total public burden (in hours) associated with the collection: 960 annual burden hours.

If you need a copy of the information collection instrument, please visit the Federal eRulemaking Portal at http://www.Regulations.gov. We may also be contacted at USCIS, Regulatory Coordination Division, Office of Policy and Strategy, 20 Massachusetts Avenue NW., Washington, DC 20529-2020, Telephone number 202-272-8377.

Dated: July 11, 2012.
Laura Dawkins,
Chief, Regulatory Coordination Division, Office of Policy and Strategy, U.S. Citizenship and Immigration Services, Department of Homeland Security.

[FR Doc. 2012-17231 Filed 7-13-12; 8:45 am]

BILLING CODE 9111-97-P